DEPARTMENT OF STATE

[Public Notice: 12398]

Notice of Department of State Sanctions Actions

ACTION: Notice.

SUMMARY: The U.S. Department of State's Office of Economic Sanctions Policy and Implementation (SPI) is publishing the name of an individual who has been removed from the List of Specially Designated Nationals and Blocked Persons (SDN List) maintained by the Office of Foreign Assets Control (OFAC) and is consequently no longer subject to the prohibitions imposed pursuant to the Executive Order, “Blocking Property With Respect To Specified Harmful Foreign Activities of the Government of the Russian Federation.”

DATES: The actions described in this notice were effective on September 14, 2023.

FOR FURTHER INFORMATION CONTACT: Aaron P. Forsberg, Director, Office of Economic Sanctions Policy and Implementation, Bureau of Economic and Business Affairs, Department of State, Washington, DC 20520, tel.: (202) 647 7677, email: forsbergap@state.gov.

SUPPLEMENTARY INFORMATION:

Electronic Availability

The SDN List and additional information concerning OFAC sanctions programs are available from OFAC's website at http://www.treasury.gov/ofac.

Notice of Department of State Actions

On September 14, 2023, OFAC removed from the SDN List the individual listed below, who was subject to prohibitions imposed pursuant to E.O. 14024 of April 15, 2021.

Entity

1. GOLDFINCH, Paul Andrew, Russia; Latvia; DOB Oct 1970; nationality New Zealand; Gender Male (individual) [RUSSIA-EO14024] (Linked To: PUBLIC JOINT STOCK COMPANY BANK FINANCIAL CORPORATION OTKRITIE).

Amy E. Holman,
Principal Deputy Assistant Secretary, Bureau of Economic and Business Affairs, Department of State.

[FR Doc. 2024-10028 Filed 5-7-24; 8:45 am]

BILLING CODE 4710-07-P